SMALL BUSINESS ADMINISTRATION

Meeting of the Advisory Committee on Veterans Business Affairs

AGENCY: U.S. Small Business Administration.

ACTION: Notice of open Federal Advisory Committee Meeting.

SUMMARY: The U.S. Small Business Administration (SBA) is issuing this notice to announce the location, date, time, and agenda for the next meeting of the Advisory Committee on Veterans Business Affairs. The meeting is open to the public.

DATES: Thursday, December 14, 2017, from 9:00 a.m. to 4:00 p.m.

ADDRESSES: U.S. Small Business Administration, 409 3rd Street SW., Washington, DC 20416.

Where: Office of Entrepreneurial Development Conference Room, 6th Floor. Due to limited seating, the general public is requested to attend the meeting via teleconference or webinar.

Contact Info: (Teleconference Dial-in) 1-888-858-2144, Access Code: 7805798; (Webinar) https://connect16.uc.att.com/sba/meet/?ExEventID=87805798; Access Code: 7805798.

SUPPLEMENTARY INFORMATION: Pursuant to section 10(a)(2) of the Federal Advisory Committee Act (5 U.S.C., Appendix 2), SBA announces the meeting of the Advisory Committee on Veterans Business Affairs (ACVBA). The ACVBA is established pursuant to 15 U.S.C. 657(b) note, and serves as an independent source of advice and policy. The purpose of this meeting is to focus on strategic planning, updates on past and current events, and the ACVBA's objectives for 2018.

This meeting is open to the public. Advance notice of attendance is requested. Anyone wishing to attend and/or make comments to the ACVBA must contact SBA's Office of Veterans Business Development no later than December 8, 2017 at veteransbusiness@sba.gov. Comments for the record will be limited to five minutes to accommodate as many participants as possible. Written comments should be sent to the above by December 8, 2017. Special accommodation requests should also be directed to SBA's Office of Veterans Business Development at (202) 205-6773 or veteransbusiness@sba.gov.

For more information on veteran owned small business programs, please visit www.sba.gov/veterans.

Dated: November 21, 2017.
Richard W. Kingan,
SBA Committee Management Officer.

[FR Doc. 2017-26352 Filed 12-6-17; 8:45 am]

BILLING CODE P